DEPARTMENT OF HEALTH AND HUMAN SERVICES

Food and Drug Administration

Neurological Devices Panel of the Medical Devices Advisory Committee; Notice of Postponement of Meeting

AGENCY: Food and Drug Administration, HHS.

ACTION: Notice.

The Food and Drug Administration (FDA) is postponing the meeting of the Neurological Devices Panel scheduled for October 31, 2006. The meeting was announced in the Federal Register of September 22, 2006 (71 FR 55491). FDA's Center for Devices and Radiological Health will further evaluate data relevant to the topic. A future meeting date will be announced in the Federal Register.

Contact Person: Janet L. Scudiero, Center for Devices and Radiological Health (HFZ-410), Food and Drug Administration, 9200 Corporate Blvd., Rockville, MD 20850, 301-594-1184, or FDA Advisory Committee Information Line, 1-800-741-8138 (301-443-0572 in the Washington, DC area), code 3014512513. Please call the Information Line for up-to-date information on this meeting.

Dated: October 13, 2006.
Randall W. Lutter,
Associate Commissioner for Policy and Planning.

[FR Doc. 06-8788 Filed 10-19-06; 8:45 am]

BILLING CODE 4160-01-S